DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before July 28, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2014-018-C.

Petitioner: S & J Coal Mine, Inc., 15 Motter Drive, Pine Grove, Pennsylvania 17963.

Mine: Slope #2 Mine, MSHA I.D. No. 36-09963, located in Schuylkill County, Pennsylvania.

Regulation Affected: 30 CFR 75.1002(a) (Installation of electric equipment and conductors; permissibility).

Modification Request: The petitioner requests a modification of the existing standard to permit the use of nonpermissible electric drags and battery locomotives within 150 feet of pillar workings. The petitioner asserts that the request is due in part to the method of mining used in pitching anthracite mines and the alternative evaluation of the mine air quality for methane on an hourly basis during operation with one of the gas tests results to be recorded in the on-shift examination record. The petitioner states that:

(1) Equipment operation will be suspended any time methane concentration at the equipment reaches 0.5 percent either during operation or when found during a pre-shift examination.

(2) The equipment will be operated in the working section's only intake entry (gangway), which is regularly traveled and examined.

(3) The use of drags on less than moderate pitching veins (less than 20 degree pitch) is the only practical system of mining in use.

(4) Permissible drags are not commercially available, and due in part to their small size, permissible locomotives are not commercially available.

(5) As a result of low daily production rates and full timbering support, in-rushes of methane due to massive pillar falls are unlikely to occur.

(6) Recovery of the pillars above the first miner heading is usually accomplished on the advance within 150 feet of the section intake (gangway) and the remaining minable pillars are recovered from the deepest point of penetration outby.

(7) The 5,000 cubic feet per minute of required intake air flow is measured just outby the nonpermissible equipment with the ventilating air passing over the equipment to ventilate the pillar being mined.

(8) The electrical equipment is attended during operation, and either power to the unit is deenergized at the intersection of the working gangway and intake slope, or the equipment is moved to that area when production ceases, minimizing any ignition potential from the pillar recovery area.

(9) Where more than one active line of pillar breast recovery exists, the locomotive may travel to a point just outby the deepest active chute/breast (room) workings or last open crosscut in a developing set of entries.

The petitioner asserts that the proposed alternative method will provide the same measure of protection as that afforded by the existing standard.

Docket Number: M-2014-019-C.

Petitioner: The M-Class Coal Company, 11351 North Thompsonville Road, Macedonia, Illinois 62860.

Mine: M-Class Mine, MSHA I.D. No. 11-03189, located in Franklin County, Illinois.

Regulation Affected: 30 CFR 75.1909(b)(6) (Nonpermissible diesel-powered equipment; design and performance requirements).

Modification Request: The petitioner requests a modification of the existing standard to permit an alternative method of compliance with respect to the braking systems on the Getman RDG-1504 Road Builder. The petitioner proposes to operate the Road Builder, Serial Number 7059, as it was originally designed without brakes. The petitioner states that:

(1) The standard does not address equipment with more than four wheels, specifically the Getman RDG-1504 Road Builder with six wheels. This machine has dual brake systems on the four rear wheels and is designed to prevent a loss of braking due to a single component failure.

(2) Seventy-four percent of the machine's total weight is over the four rear wheels. With the weight distribution, brakes on the rear of the machine are sufficient to safely stop the machine.

(3) Grader operators will be trained to lower the moldboard for additional stopping capability in emergency situations.

(4) Operators will be trained to recognize the appropriate speeds to use on different roadway conditions.

(5) The speed of the machine will be limited to 10 miles per hour.

(6) The safety of the miners will not be compromised if the machine is operated as described above.

The petitioner asserts that the proposed alternative method will guarantee the same measure of protection to the miners as the existing standard.

Docket Number: M-2014-004-M.

Petitioner: FMC Minerals Corporation, Box 872, Green River, Wyoming 82935.

Mine: FMC Westvaco Mine, MSHA I.D. No. 48-00152, located in Sweetwater County, Wyoming.

Regulation Affected: 30 CFR 57.22305 (Approved equipment (III mines)).

Modification Request: The petitioner requests a modification of the existing standard to permit a submersible mine pump installed and operated through a borehole from the surface to be operated in a flooded area of the mine.

The petitioner states that this modification involves operating a non-permissible pump in an area of the mine, which was previously a shortwall panel.

If additional pumps need to be installed in mine return airways in the future, the petitioner proposes to follow the requirements of this modification.

The depth of the new well will depend on the pump style, casing, and net positive suction head required. The pump will be monitored by a motor controller designed for submersible pumps. The existing well and submersible pump installation at the Granger operation uses a protector unit located between the motor and pump that isolates the motor and equalizes pressure, negating the possibility that the oil will leak from the motor. The pumps are used to pump oil, gas, and propane without any other safety systems. A similar pump will be used for the FMC Westvaco Mine.

The petitioner asserts that because the trona mining environment does not have the inherent safety hazards of coal mining, the requirements from the Granger operation pump modification should provide equivalent safety measures for the Westvaco submersible pump application.

The intent for installation of the pump is to recover trona resources and maintain production in the petitioner's ELDM plant. Solution mining allows trona resources to be safely recovered from the surface without using underground miners to extract the trona. The petitioner asserts that after reviewing the Mine Pump Approval Lists from the MSHA Approval and Certification Center, they did not find a permissible pump that will meet the process requirements for this application. The petitioner states that:

(1) The high-voltage three-phase alternating current electric power circuit for the pumps will be designed and installed to:

(a) Contain either a direct or derived neutral that will be grounded through a suitable resistor at the source transformer or power center. A grounding circuit originating at the grounded side of the grounding resistor will extend along with the power conductors and serve as the grounding conductor for the frame of the pumps and all associated electric equipment that may be supplied power from this circuit. Power will not be supplied to any other equipment from this circuit.

(b) Contain a grounding resistor that limits the ground-fault current to not more than 15 amperes. The grounding resistor will be rated for the maximum fault current available and will be insulated from the ground for a voltage equal to the phase-to-phase voltage of the system.

(c) Contain a suitable circuit breaker or vacuum contactor of adequate interrupting with devices to provide protection against under-voltage, grounding phases, short-circuit and overload.

(d) Contain a disconnecting device installed in conjunction with the circuit breaker to provide visual evidence that all power is disconnected from the pump.

(e) Include a fail-safe ground check circuit or other no less effective device approved by MSHA as required by 30 CFR 57.12028, that will cause the circuit breaker to open when either the ground or the ground check wire is broken.

(f) Contain a low resistance grounding medium for grounding of the lightning arrestor(s) of the high voltage power circuits of the pump(s) that is separated from the pump power neutral power circuit by a distance of no less than 25 feet.

(g) Protect all associated equipment with this pump on the surface of the mine from dust, rain, and rodents by a suitable enclosure.

(2) The electric control circuit for the pump will be designed and installed to:

(a) Maintain the electric connections of the pump and pump motor under 3 feet of water at all times.

(b) Automatically deenergize the pump motor when the water level falls below 3 feet at the pump location.

(c) Prevent the restarting of the pump motor at any time the water level is below 3 feet at the pump location.

(3) The pump installation will be equipped with a water level indicator located at the pump electrical controls so that the water level at the pump can be determined before the pump motor is restarted.

(4) All high- and low-water probes and float circuits associated with the pump will be MSHA-accepted intrinsically safe, and will be installed and maintained in accordance with MSHA acceptance.

(5) All surface installed equipment associated with the pump will be accessible for inspection.

(6) A functional test will be conducted weekly for the grounded-phase protective device(s) to determine if it is operating properly. A record of the tests will be kept for one year and will be made available for review by MSHA.

(7) Before installation and operation of any future pumps, not including replacement pump(s) for the pump in this proposed petition, the petitioner will notify the District Manager for approval prior to installation and operation.

(8) Implementation of the proposed decision and order will not begin until MSHA has conducted an inspection of the pump and associated electrical installation to ensure that the terms and conditions of the decision have been complied with.

(9) Within 60 days after this petition for modification is granted, the petitioner will submit to the District Manager proposed revisions for the approved 30 CFR part 48 training plan that will specify task training for all electricians who perform electric work on this pump. The training will include instructions in the following elements:

(a) Hazards that could exist if the water level falls below the electric connections of the pumps and pump motor; and

(b) Safe pump restart procedures when the water is 3 feet above the electric components and pump motor.

The petitioner asserts that adhering to the proposed requirements in this petition for modification will guarantee the same measure of protection as the existing standard.

Sheila McConnell,
Acting Director, Office of Standards, Regulations and Variances.

[FR Doc. 2014-15037 Filed 6-26-14; 8:45 am]

BILLING CODE 4510-43-P